DEPARTMENT OF TRANSPORTATION

Federal Aviation Administration

14 CFR Part 91

[Docket No. FAA-2011-0246; Amendment No. 91-321A; SFAR No. 112]

RIN 2120-AJ93

Prohibition Against Certain Flights Within the Tripoli Flight Information Region (FIR); Extension of Expiration Date

AGENCY: Federal Aviation Administration (FAA), DOT.

ACTION: Final rule; extension of expiration date.

SUMMARY: This action extends the prohibition of flight operations within the Tripoli Flight Information Region (FIR) by all U.S. air carriers; U.S. commercial operators; persons exercising the privileges of an airman certificate issued by the FAA, except when such persons are operating a U.S.-registered aircraft for a foreign air carrier; and operators of U.S.-registered civil aircraft, except operators of such aircraft that are foreign air carriers. The extension of the expiration date is necessary to prevent a potential hazard to persons and aircraft engaged in such flight operations while the FAA evaluates whether any amendments to the regulation would be appropriate, given current conditions in Libya.

DATES: In this action, amendment 2 to § 91.1603 is effective March 21, 2014. Amendment 3 to § 91.1603 is effective March 20, 2015.

SFAR 112 (14 CFR 91.1603), published at 76 FR 16236 (March 23, 2011) and scheduled to expire on March 21, 2014, will remain in effect. The expiration date is extended until March 20, 2015.

ADDRESSES: You may send comments identified by docket number FAA-2011-0246 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to Docket Operations in Room W12-140 of the West Building Ground Floor at 1200 New Jersey Avenue SE., Washington, DC, between 9 a.m. and 5 p.m., Monday through Friday, except Federal holidays.

FOR FURTHER INFORMATION CONTACT: For technical questions about this final rule, contact: William Gonzalez, Air Transportation Division, Flight Standards Service, AFS-220, Federal Aviation Administration, 800 Independence Avenue SW., Washington, DC 20591. Telephone: 202-267-4080. For legal questions contact: Robert Frenzel, Office of the Chief Counsel, AGC-200, Federal Aviation Administration, 800 Independence Avenue SW., Washington, DC 20591; telephone (202) 267-7638.

SUPPLEMENTARY INFORMATION:

Background

As a result of safety and national security concerns regarding flight operations in the Tripoli FIR (HLLL), the FAA issued section 91.1603 of title 14, Code of Federal Regulations, Special Federal Aviation Regulation 112 (SFAR No. 112), in March 2011. SFAR No. 112 prohibits all U.S. air carriers; U.S. commercial operators; persons exercising the privileges of an airman certificate issued by the FAA, except when such persons are operating a U.S.-registered aircraft for a foreign air carrier; and operators of U.S.-registered civil aircraft, except operators of such aircraft that are foreign air carriers, from conducting flight operations in the Tripoli FIR, except as provided in paragraphs (c) and (d) of that SFAR. When SFAR No. 112 was issued, an armed conflict was ongoing in Libya and presented a potential hazard to civil aviation. The FAA was concerned that runways at Libya's international airports, including the main international airports serving Benghazi (HLLB) and Tripoli (HLLT), might be damaged or degraded. There was also concern that air navigation services in the Tripoli FIR might be unavailable or degraded. In addition, the proliferation of air defense weapons, including Man-Portable Air-Defense Systems (MANPADS), and the presence of military operations, including Libyan aerial bombardments and unplanned military flights entering and departing the Tripoli FIR, posed a potential hazard to U.S. operators, U.S.-registered aircraft, and FAA-certificated airmen that might operate within the Tripoli FIR. Additionally, the UN Security Council adopted Resolution 1973 on March 18, 2011, which mandated a ban on all flights in the airspace of Libya, with certain exceptions.

Although the Gadhafi regime has been overthrown and the UN-mandated ban on flights in Libyan airspace has been lifted, significant security concerns remain for Libya and for the safety of U.S. civil aviation operations in that country. On December 12, 2013, the Department of State issued a Travel Warning strongly advising against all non-essential travel to Libya. The security situation in country remains unstable and various groups have called for attacks against U.S. citizens and U.S. interests in Libya. As a consequence of the unpredictable security environment, a potential hazard to U.S.-registered aircraft, U.S. operators, and FAA-certified airmen still exists. Many military-grade weapons remain in the hands of private individuals and groups, among them anti-aircraft weapons that may be used against civil aviation, to include MANPADS. The Travel Warning also warns that closures or threats of closures of the international airports occur regularly for maintenance, labor, or security-related reasons. For these reasons, the FAA finds it necessary to extend the expiration date of SFAR No. 112 for an additional one year.

Because the circumstances described herein warrant immediate action by the FAA, I find that notice and public comment under 5 U.S.C. 553(b)(3)(B) are impracticable and contrary to the public interest. Further, I find that good cause exists under 5 U.S.C. 553(d) for making this rule effective immediately upon issuance. I also find that this action is fully consistent with the obligations under 49 U.S.C. 40105 to ensure that I exercise my duties consistently with the obligations of the United States under international agreements.

If appropriate, the FAA may amend, supersede or rescind SFAR No. 112 prior to its new expiration date. Whether further extension of this SFAR will be necessary will depend upon conditions in Libya in March 2015, which the FAA is unable to predict at this time.

List of Subjects in 14 CFR Part 91

Air traffic control, Aircraft, Airmen, Airports, Aviation safety, Freight, Libya.

The Amendment

In consideration of the foregoing, the Federal Aviation Administration amends chapter I of title 14, Code of Federal Regulations as follows:

PART 91—GENERAL OPERATING AND FLIGHT RULES

1. The authority citation for part 91 is revised to read as follows:

Authority: 49 U.S.C. 106(f), 106(g), 1155, 40103, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. Effective March 21, 2014, amend § 91.1603 by revising paragraph (e) to read as follows:

§ 91.1603 Special Federal Aviation Regulation No. 112—Prohibition Against Certain Flights Within the Tripoli (HLLL) Flight Information Region (FIR).

* * * * *

(e) Expiration. This Special Federal Aviation Regulation will expire March 20, 2015. The FAA may amend, rescind, or extend this Special Federal Aviation Regulation as necessary.

§ 91.1603 [Amended]

3. Effective March 20, 2015, amend § 91.1603 by removing paragraph (e)

Issued under authority provided by 49 U.S.C. 106(f), 44701(a), and 44703 in Washington, DC, on March 14, 2014.
Michael P. Huerta,
Administrator.

[FR Doc. 2014-06199 Filed 3-20-14; 8:45 am]

BILLING CODE 4910-13-P